DEPARTMENT OF TRANSPORTATION

Federal Railroad Administration

[Docket Number FRA-2013-0134]

Petition for Waiver of Compliance

In accordance with Part 211 of Title 49 Code of Federal Regulations (CFR), this document provides the public notice that by a document dated November 19, 2013, the Reading Blue Mountain and Northern Railroad (RBMN) has petitioned the Federal Railroad Administration (FRA) for a waiver of compliance from certain provisions of the Federal railroad safety regulations contained at 49 CFR Part 230-Steam Locomotive Inspection and Maintenance Standards. FRA assigned the petition Docket Number FRA-2013-0134. RBMN owns and operates No.425, a 4-6-2 Pacific class steam locomotive built in 1928 by the Baldwin Locomotive Works for the Gulf, Mobile, and Ohio Railroad. RBMN No. 425 is operated periodically for special trains on RBMN.

RBMN requests relief from 49 CFR 230.16(a)(2), Fifth annual inspection, with respect to 49 CFR 230.41, Flexible staybolts with caps. Specifically, RBMN is petitioning for a delay of the flexible staybolt and cap inspection for an undetermined amount of calendar days until RBMN No. 425 has accumulated 200 service days. Inclusive of the 2013 operating season, RBMN No. 425 will have accumulated 125 service days since the 1,472 service-day inspection was performed in December 2007. RBMN states that the flexible staybolt and cap inspection required by 49 CFR 230.41 would require 14 man-weeks to perform and be a burden on the RBMN steam program.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov/. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by March 28, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Robert C. Lauby,
Associate Administrator for Railroad Safety, Chief Safety Officer.

[FR Doc. 2014-02866 Filed 2-10-14; 8:45 am]

BILLING CODE 4910-06-P